DEPARTMENT OF DEFENSE

Office of the Secretary

Defense Science Board; Notice of Federal Advisory Committee Meeting

AGENCY: Under Secretary of Defense for Research and Engineering, Department of Defense (DoD).

ACTION: Notice of Federal Advisory Committee meeting.

SUMMARY: The DoD is publishing this notice to announce that the following Federal Advisory Committee meeting of the Defense Science Board (DSB) will take place.

DATES: Closed to the public Wednesday, January 15, 2025, from 8:30 a.m. to 4:15 p.m. Eastern time.

ADDRESSES: The address of the closed meeting is the Pentagon, Room 3E188, Washington, DC 20301.

FOR FURTHER INFORMATION CONTACT: Ms. Elizabeth J. Kowalski, Designated Federal Officer (DFO): (703) 571-0081 (Voice), (703) 697-1860 (Facsimile), elizabeth.j.kowalski.civ@mail.mil, (Email). Mailing address is Defense Science Board, 3140 Defense Pentagon, Washington, DC 20301-3140. Website: http://www.acq.osd.mil/dsb/. The most up-to-date changes to the meeting agenda can be found on the website.

SUPPLEMENTARY INFORMATION: This meeting is being held under the provisions of chapter 10 of title 5, United States Code (U.S.C.) (commonly known as the “Federal Advisory Committee Act” or “FACA”); 5 U.S.C. 552b(c); and sections 102-3.140 and 102-3.150 of title 41, Code of Federal Regulations (CFR).

Purpose of the Meeting: The mission of the DSB is to provide independent advice and recommendations to the Secretary of Defense on matters relating to the DoD's scientific and technical enterprise. The objective of the meeting is to obtain, review, and evaluate classified information related to the DSB's mission. The DSB will meet with DoD Leadership to discuss classified current and future national security challenges and priorities within the DoD and deliberate and vote on findings and recommendations.

Agenda: The meeting will begin on Wednesday, January 15, 2025, at 8:15 a.m. Ms. Betsy Kowalski, DFO, and Dr. Eric Evans, Chair of the DSB, will provide classified opening remarks regarding ongoing studies. Next, from 9 a.m. to 9:30 a.m. the board will deliberate and vote on the classified findings and recommendations of the DSB Task Force on 21st Century Industrial Base for National Defense. From 9:30 a.m. to 10:30 a.m. Dr. Christopher Scolese, National Reconnaissance Office (NRO) Director, will provide a classified briefing on his views of current NRO strategy, challenges, and priorities. Following a 15-minute break, the DSB will hold a session from 10:45 a.m. to 12:30 p.m. that includes a classified discussion to deliberate and vote on the findings and recommendations of the DSB Task Force on Balancing Security, Reliability, and Technological Advantage in Generative Artificial Intelligence for Defense. Following a break from 12:30 p.m. to 1:30 p.m., the DSB Members will hold a classified discussion to deliberate and vote on the findings and recommendations of the DSB Task Force on Emerging Biotechnologies and National Security. After the final break of the day from 3 p.m. to 3:15 p.m., General Reed, Commander U.S. Transportation Command (TRANSCOM), will provide a classified briefing from 3:15 p.m. to 4:15 p.m. on his views of current TRANSCOM strategy, challenges, and priorities (VTC). The meeting will adjourn at 4:15 p.m.

Meeting Accessibility: In accordance with 5 U.S.C. 1009(d) and 41 CFR 102-3.155, the DoD has determined that the DSB meeting will be closed to the public. Specifically, the Under Secretary of Defense for Research and Engineering, in consultation with the DoD Office of the General Counsel, has determined in writing that the meeting will be closed to the public because it will consider matters covered by 5 U.S.C. 552b(c)(1). The determination is based on the consideration that it is expected that discussions throughout will involve classified matters of national security concern. Such classified material is so intertwined with the unclassified material that it cannot reasonably be segregated into separate discussions without defeating the effectiveness and meaning of the overall meetings. To permit the meeting to be open to the public would preclude discussion of such matters and would greatly diminish the ultimate utility of the DSB's findings and recommendations to the Secretary of Defense and to the Under Secretary of Defense for Research and Engineering.

Written Statements: In accordance with 5 U.S.C. 1009(a)(3) and 41 CFR 102-3.150(6) and 102-3.140, interested persons may submit a written statement for consideration by the DSB at any time regarding its mission or in response to the stated agenda of a planned meeting. Individuals submitting a written statement should submit their statement to Ms. Elizabeth J. Kowalski, the DSB DFO, via electronic mail (the preferred mode of submission) at the email address provided above in the FOR FURTHER INFORMATION CONTACT section. Each page of the comment or statement must include the author's name, title or affiliation, address and daytime phone number. If a written statement is not received at least three calendar days prior to the scheduled meeting, which is the subject of this notice, then it may not be provided to or considered by the DSB until a later date. Please note that all submitted comments and statements will be treated as public documents and will be made available for public inspection, including, but not limited to, being posted on the Board's website.

Dated: December 9, 2024.
Aaron T. Siegel,
Alternate OSD Federal Register Liaison Officer, Department of Defense.

[FR Doc. 2024-29349 Filed 12-12-24; 8:45 am]

BILLING CODE 6001-FR-P